DEPARTMENT OF THE INTERIOR

Bureau of Land Management

[LLUT92000 L13100000 FI0000 25-7A]

Notice of Proposed Class II Reinstatement of Terminated Oil and Gas Leases, Utah.

AGENCY: Bureau of Land Management, Interior.

ACTION: Notice of Proposed Class II Reinstatement of Terminated Oil and Gas Leases, Utah.

SUMMARY: In accordance with Title IV of the Federal Oil and Gas Royalty Management Act (Pub. L. 97-451), Skyline Geyser LLC timely filed a petition for reinstatement of oil and gas leases UTU86505, UTU86506, and UTU86485 for lands in Iron County, Utah, and it was accompanied by all required rentals and royalties accruing from July 1, 2011, the date of termination.

FOR FURTHER INFORMATION CONTACT: Kent Hoffman, Deputy State Director, Lands and Minerals, Utah State Office, Bureau of Land Management, 440 West 200 South, Salt Lake City, Utah 84145, phone (801) 539-4063.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The lessee has agreed to new lease terms for rentals and royalty rates. The rentals for UTU86506 and UTU86485 will increase to $5 per acre per year and royalty rate will increase to 16 ⅔%. Rental for UTU86505 will increase to $10 per acre and royalty to 16 ⅔%. The $500 administrative fee for the leases has been paid and the lessee has reimbursed the Bureau of Land Management for the cost of publishing this notice.

The public has 30 days after publication in the Federal Register to comment on the issuance of the Class II reinstatement. If no objections are received within that 30-day period, the BLM will issue a decision to the lessee reinstating the lease. Written comments will be accepted by fax at (801) 539-4200, email: khoffman@blm.gov, or letter to: Bureau of Land Management, Utah State Office, Attn: Kent Hoffman, P.O. Box 45155, Salt Lake City, UT 84145.

As the lessee has met all the requirements for reinstatement of the leases as set out in Section 31(d) and (e) of the Mineral Leasing Act of 1920 (30 U.S.C. 188), the Bureau of Land Management is proposing to reinstate the leases, effective July 1, 2011, subject to the original terms and conditions of the leases and the increased rental and royalty rates cited above.

Shelley J. Smith,
Acting Associate State Director.

[FR Doc. 2012-10044 Filed 4-25-12; 8:45 am]

BILLING CODE 4310-DQ-P